SMALL BUSINESS ADMINISTRATION

National Women's Business Council; Notice of Public Meeting

AGENCY: Small Business Administration, National Women's Business Council.

ACTION: Notice of open public meeting.

DATES: The public meeting will be held on Wednesday, February 8, 2023, from 10:00 a.m. to 12:00 p.m. EDT.

ADDRESSES: This meeting is hybrid and will be held via Zoom, a web conferencing platform as well as in-person. The access link will be provided to attendees upon registration. For those attending in-person, the event will take place at the U.S. Small Business Administration Headquarters (409 3rd St. SW, Washington, DC 20416) in Eisenhower Conference Room B on the Concourse Level.

FOR FURTHER INFORMATION CONTACT: For more information, please visit the NWBC website at www.nwbc.gov, email info@nwbc.gov or call Jordan Chapman (NWBC Communications Specialist) at 202-941-6001.

The meeting is open to the public; however, advance notice of attendance is requested. To RSVP, please visit the NWBC website at www.nwbc.gov. The “Public Meetings” section will feature a link to register on Eventbrite.

NWBC strongly encourages that public comments and questions be submitted in advance by January 31st. This Eventbrite registration page will include an opportunity to do so, but individuals may also email info@nwbc.gov with subject line— “[Name/Organization] Comment for 02/08/23 Public Meeting.” NWBC staff may read a selection submitted statements during the final 20 minutes of the program.

This event will be held over Zoom and in-person, with a link being provided closer to the date of the event for Zoom attendees. During the live event, attendees will be in listen-only mode. For technical assistance, please visit the Zoom Support Page. All public comments will be included in the meeting record, which will be made available on www.nwbc.gov under the “Public Meetings” section.

SUPPLEMENTARY INFORMATION: Pursuant to section 10(a)(2) of the Federal Advisory Committee Act, the National Women's Business Council (NWBC) announces its third public meeting of Fiscal Year 2022. The 1988 Women's Business Ownership Act established NWBC to serve as an independent source of advice and policy recommendations to the President, Congress, and the Administrator of the U.S. Small Business Administration (SBA) on issues of importance to women entrepreneurs.

This meeting will allow Council Members to review what has been accomplished over the past year and preview what may be accomplished over the next year. The event will include guest speakers and will allow Council Members to respond to a selection of questions and comments from the public.

Dated: December 5, 2022.
Andrienne Johnson,
Committee Management Officer.

[FR Doc. 2022-26718 Filed 12-8-22; 8:45 am]

BILLING CODE P